DEPARTMENT OF JUSTICE

[AAG/A Order No. 013-2003]

Privacy Act of 1974; System of Records

Pursuant to the provisions of the Privacy Act of 1974 (5 U.S.C. 552a), notice is given that the Criminal Division (CRM), Department of Justice, proposes to revise a system of records presently entitled “Index of Prisoners Transferred Under Prisoner Transfer Treaties,” Justice/CRM-026, which covers the described records maintained by the International Prisoner Transfer Unit (IPTU), Office of Enforcement Operations, Criminal Division. This system was last published in the Federal Register at 52 FR 47203, dated Friday, December 11, 1987.

The purpose of publishing this notice is to rename the system (to now be named the “International Prisoner Transfer Case Files/International Prisoner Transfer Tracking System”), to update and clarify the scope of the records maintained by the IPTU in this system, to more accurately describe how such records are currently maintained, and to specify the duration for which such records are to be retained. The revised system of records also expands upon the routine uses of records maintained in the system, and adds routine uses lately incorporated into other Department of Justice systems of records pertaining to law enforcement matters.

In accordance with 5 U.S.C. 552a(e)(4) and (11), the public is given a 30-day period in which to comment; and the Office of Management and Budget (OMB), which has oversight responsibility under the Act, requires a 40-day period in which to conclude its review of the system. Therefore, please submit any comments by May 29, 2003. The public, OMB, and the Congress are invited to submit any comments to Mary E. Cahill, Management and Planning Staff, Justice Management Division, Department of Justice, Washington, DC, 20530 (Room 1400, National Place Building).

In accordance with 5 U.S.C. 552a(r), the Department has provided a report to OMB and the Congress.

Dated: April 23, 2003.
Paul R. Corts,
Assistant Attorney General for Administration.

Justice/CRM—026

System Name:

International Prisoner Transfer Case Files/International Prisoner Transfer Tracking System.

System Location:

U.S. Department of Justice, Criminal Division, Office of Enforcement Operations, 950 Pennsylvania Ave., NW., Washington, DC 20530.

Categories of Individuals Covered by the System:

Prisoners transferred to or from prisons in the United States under international prisoner transfer treaties between the United States and foreign nations. Please note that prisoners being transferred from prisons in the United States pursuant to international prisoner transfer treaties are primarily foreign nationals who are generally not protected by the Privacy Act. In rare cases, such individuals may hold dual citizenship or may be lawful permanent residents of the United States. Accordingly, the purpose of this notice is to cover only United States Citizens and lawful permanent residents who are included in this information system.

Categories of Records in the System:

Paper Files: The system contains the individual case files of prisoners who have applied for or been granted transfers to serve the balance of their sentences in their native countries. This includes both United States citizens who have applied to return to the United States and foreign nationals who have applied to be transferred to foreign countries. The system may include, but is not limited to, the following information: The application for transfer; investigatory material; court-related documents; prison progress reports; media reports; official and other correspondence; and interagency and intra-agency reports and recommendations and decisional documents relating to individual transfer matters.

Computerized Records: The system also includes an automated database for tracking the handling of prisoner transfer cases from application to final action. Information used to track such progress may include, but is not limited to, the prisoner's name, social security number, birth date, place of birth, offenses and sentencing information and other case-related information.

Authority for Maintenance of the System:

The system is maintained to implement the provisions of 18 U.S.C. 4100 et. seq. The records maintained in the system are used to evaluate international prisoner transfer applications to determine whether a particular application should be granted or denied, to respond to inquiries regarding transfer applications and determinations, to respond to subsequent litigation relating to prisoner transfer determinations and/or the validity of prisoner consent, and to permit periodic reports to Congress and others on matters relating to international prisoner transfers.

Routine Uses of Records Maintained in the System, Including Categories of Users and the Purposes of Such Uses:

Records, or information derived therefrom, in this system of records may be disclosed to the following:

(a) In appropriate proceedings before a court, grand jury, or administrative or regulatory body when records are determined by the Department of Justice, or the adjudicator, to be arguably relevant to the proceeding.

(b) A State, territorial, local or foreign government, at its request, when the record relates to one of its past or present prisoners.

(c) Such recipients and under such circumstances and procedures as are authorized by Federal statute or treaty.

(d) An appropriate Federal, State, territorial, local, foreign, or tribal law enforcement authority or other appropriate agency charged with the responsibility for investigating or prosecuting a violation or potential violation of law (whether civil, criminal, or regulatory in nature).

(e) A Federal, State, territorial, local, foreign or tribal agency, including prosecution, corrections, sentencing, or parole authorities, in order to assist in the execution of appropriate actions necessary to implement an international prisoner transfer decision, or in the performance of its official duties.

(f) Any Federal government agency for all purposes relating to the monitoring and control of entry of individuals into the United States.

(g) The news media and the public pursuant to 28 CFR 50.2, unless it is determined that release of the specific information in the context of a particular case would constitute an unwarranted invasion of personal privacy.

(h) A Member of Congress or staff acting upon the Member's behalf when the Member or staff requests the information on behalf of and at the request of the individual who is the subject of the record.

(i) The National Archives and Records Administration and the General Services Administration for records management inspections conducted under the authority of 44 U.S.C. 2904 and 2906.

(j) Current and former government employees, including law enforcement and judicial authorities, whose comments on a particular prisoner transfer matter are solicited by the International Prisoner Transfer Unit in connection with its investigation and review of such a case, in order to enable such persons to formulate a response to the request.

(k) Contractors, grantees, experts, consultants, students and others performing or working on a contract, service, grant cooperative agreement or other assignment for the Federal government, when necessary to accomplish an agency function related to this system of records.

(l) Former employees of the Department of Justice for purposes of responding to an official inquiry by a Federal, State or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Electronic data is stored in electronic media via a configuration of client/server and personal computer. Computerized records are stored on hard disk, floppy diskettes, or compact disks. Paper records and electronic media recordings of prisoner transfer consent verification hearings are stored in individual file folders and file cabinets with controlled access, and/or other appropriate GSA approved security containers.

Retrievability:

Individual case files are retrieved by a file number assigned to each individual who applies for or is granted a transfer. Information stored in the computerized case tracking system is retrieved primarily by searching under the name and/or Federal Bureau of Prisons' register number, or other inmate number, assigned to the person who applied for or was granted a transfer.

Safeguards:

Paper records are secured through the use of safes and/or restricted access to the space in which files are located. Electronic records are safeguarded in accordance with DOJ rules and policies governing automated systems security and access, including the maintenance of technical equipment in restricted areas and the required use of individual passwords and user identification codes to access the system.

Retention and Disposal:

Individual case files are stored in the International Prisoner Transfer Unit's work area while the prisoner transfer request is pending, and generally for up to three years after the date of closing. Cases are closed upon completion of prisoner transfer, denial of transfer, or prisoner withdrawal of request to transfer. Thereafter, files are transferred to the Washington National Records Center in Suitland, Maryland or other designated records center. In accordance with Records Disposition Authority N1-60-93-16, all case files are retained for not less than thirty years after being closed. Thereafter, files may be destroyed, except that specific files, designated as significant because of widespread public interest, are transferred to the National Archives and Records Administration for permanent retention.

System Manager(s) and Address:

Assistant Attorney General, Criminal Division, FOIA/PA Unit, U.S. Department of Justice, 950 Pennsylvania Avenue, NW., Washington, DC 20530.

Notification Procedure:

Inquiry concerning this system should be in writing and made to the system manager listed above.

Record Access Procedures:

A request for access to a record contained in this system shall be made in writing to the system manager, with the envelope and letter clearly marked “Privacy Act Request.” The request shall include the name of the individual involved, his birth date and place, or any other identifying number or information which may be of assistance in locating the record, and the name of the case or matter involved. The requester shall also provide a signature (which must be either notarized or submitted under penalty of perjury) and a return address for transmitting the information.

Contesting Record Procedures:

Individuals desiring to contest or amend information maintained in the system should direct their request to the system manager listed above, stating clearly and concisely what information is being contested, the reasons for contesting it, and the proposed amendment to the information.

Record Source Categories:

Court records, prisoner statements, and communications with other components and agencies of the United States and foreign governments.

Systems Exempted from Certain Provisions of the Act:

None.

[FR Doc. 03-10529 Filed 4-28-03; 8:45 am]

BILLING CODE 4410-14-P